DEPARTMENT OF TRANSPORTATION

Federal Aviation Administration

Notice of Intent To Rule on Application (00-03-C-00-IDA) To Impose and Use the Revenue From a Passenger Facility Charge (PFC) at Fanning Field, Submitted by the City of Idaho Falls, Fanning Field, Idaho Falls, Idaho

AGENCY: Federal Aviation Administration (FAA), DOT.

ACTION: Notice of intent to rule on application.

SUMMARY: The FAA proposes to rule and invites public comment on the application to impose and use PFC revenue at Fanning Field under the provisions of 49 U.S.C. 40117 and Part 158 of the Federal Aviation Regulations (14 CFR 158).

DATES: Comments must be received on or before March 30, 2000.

ADDRESSES: Comments on this application may be mailed or delivered in triplicate to the FAA at the following address: Mr. J. Wade Bryant, Manager, Seattle Airports District Office, SEA-ADO, Federal Aviation Administration, 1601 Lind Avenue SW, Suite 250, Renton, Washington 98055-4056.

In addition, one copy of any comments submitted to the FAA must be mailed or delivered to Mr. M.R. Humberd, Director of Aviation, at the following address: 2140 North Skyline Drive, Idaho Falls, Idaho 83402-4906.

Air Carriers and foreign air carriers may submit copies of written comments previously provided to Fanning Field, under section 158.23 of Part 158.

FOR FURTHER INFORMATION CONTACT: Ms. Suzanne Lee-Pang, (425) 227-2654, Seattle Airports District Office, SEA-ADO, Federal Aviation Administration, 1601 Lind Avenue SW, Suite 250, Renton, Washington 98055-4056. The application may be reviewed in person at this same location.

SUPPLEMENTARY INFORMATION: The FAA proposes to rule and invites public comment on the application (00-03-C-00-IDA) to impose and use PFC revenue at Fanning Field, under the provisions of 49 U.S.C. 40117 and Part 158 of the Federal Aviation Regulations (14 CFR Part 158).

On February 23, 2000, the FAA determined that the application to impose and use the revenue from a PFC submitted by the City of Idaho Falls, Fanning Field, Idaho Falls, Idaho, was substantially complete within the requirements of § 158.25 of Part 158. The FAA will approve or disapprove the application, in whole or in part, no later than May 26, 2000.

The following is a brief overview of the application.

Level of the proposed PFC: $3.00.

Proposed charge effective date: July 1, 2000.

Proposed charge expiration date: May 1, 2009.

Total requested for use approval: $2,640,000.

Brief description of proposed project: Terminal Renovation and Expansion.

Class or classes of air carriers which the public agency has requested not be required to collect PFC's: None.

Any person may inspect the application in person at the FAA Office listed above under FOR FURTHER INFORMATION CONTACT and at the FAA Regional Airports Office located at: Federal Aviation Administration, Northwest Mountain Region, Airports Division, ANM-600, 1601 Lind Avenue S.W., Suite 315, Renton, WA 98055-4056.

In addition, any person may, upon request, inspect the application, notice and other documents germane to the application in person at Fanning Field.

Issued in Renton, Washington on February 23, 2000.
David A. Field,
Manager, Planning, Programming and Capacity Branch, Northwest Mountain Region.

[FR Doc. 00-4752 Filed 2-28-00; 8:45 am]

BILLING CODE 4910-13-M